DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the program in general, contact the Clerk, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2017, through March 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: April 13, 2017.
James Macrae,
Acting Administrator.

List of Petitions Filed

1. Cooper J. Humphries, Genesco, Illinois, Court of Federal Claims No: 17-0288V.

2. Amall Ali, New York, New York, Court of Federal Claims No: 17-0289V.

3. Dayna Sotirhos, Floral Park, New York, Court of Federal Claims No: 17-0290V.

4. Janee Morris, Atlanta, Georgia, Court of Federal Claims No: 17-0291V.

5. Carol Bedewi, Denville, New Jersey, Court of Federal Claims No: 17-0292V.

6. Lonne Martinec, Houston, Texas, Court of Federal Claims No: 17-0293V.

7. The Estate of HS, Deceased, New York, New York, Court of Federal Claims No: 17-0294V.

8. Brenda Faulk on behalf of B. B., Houston, Texas, Court of Federal Claims No: 17-0295V.

9. Lyn Geer, Washington, District of Columbia, Court of Federal Claims No: 17-0296V.

10. Britton Miller, Cleveland, Ohio, Court of Federal Claims No: 17-0297V.

11. Jackie Crook, Burlington, North Carolina, Court of Federal Claims No: 17-0298V.

12. Lucy Filipovic, Des Plaines, Illinois, Court of Federal Claims No: 17-0299V.

13. Sean Tierney on behalf of R. T., Royal Oak, Michigan, Court of Federal Claims No: 17-0300V.

14. Corey L. Crockett, Fredericksburg, Virginia, Court of Federal Claims No: 17-0301V.

15. Edwin J. Smith, Layton, Utah, Court of Federal Claims No: 17-0302V.

16. Lora Belle Brown, Colorado Springs, Colorado, Court of Federal Claims No: 17-0303V.

17. Lisa Sorrow, Abbeville, South Carolina, Court of Federal Claims No: 17-0304V.

18. Yvonne Shawgo, Butler, Pennsylvania, Court of Federal Claims No: 17-0306V.

19. Emilie Wolf on behalf of The Estate of Matthew Wolf, Deceased, Boston, Massachusetts, Court of Federal Claims No: 17-0308V.

20. Jennifer L. Call, Easton, Maryland, Court of Federal Claims No: 17-0311V.

21. Lauren Meehan, Newtown, Connecticut, Court of Federal Claims No: 17-0316V.

22. Douglas T. Lester, Greensboro, North Carolina, Court of Federal Claims No: 17-0317V.

23. Joanne McMaster, Hyannis, Massachusetts, Court of Federal Claims No: 17-0319V.

24. Jane Bennett, Steamboat Springs, Colorado, Court of Federal Claims No: 17-0320V.

25. Donna Parker, Germantown, Tennessee, Court of Federal Claims No: 17-0321V.

26. Mark Greenberg, Northfield, New Jersey, Court of Federal Claims No: 17-0322V.

27. James J. Roy and Mary Ann Boger on behalf of Paul E. Roy, Fort Wayne, Indiana, Court of Federal Claims No: 17-0323V.

28. Candace Dempsey, Tulsa, Oklahoma, Court of Federal Claims No: 17-0324V.

29. Sharon LaBounty, Worcester, Massachusetts, Court of Federal Claims No: 17-0325V.

30. Larry Thompson, Oklahoma City, Oklahoma, Court of Federal Claims No: 17-0326V.

31. Skye Robertson on behalf of D. R.-O., Kailua, Hawaii, Court of Federal Claims No: 17-0327V.

32. Jerry Ford, Virginia, Minnesota, Court of Federal Claims No: 17-0328V.

33. Mary Caspers, Boston, Massachusetts, Court of Federal Claims No: 17-0329V.

34. Jennifer Flora Brantley, Houston, Texas, Court of Federal Claims No: 17-0330V.

35. Laurie Andrews, Grand Rapids, Michigan, Court of Federal Claims No: 17-0331V.

36. Carmen Gonzalez, Dallas, Texas, Court of Federal Claims No: 17-0332V.

37. Leanna Gerritsen-Smith, Buellton, California, Court of Federal Claims No: 17-0334V.

38. Alan Phillips, Hamilton, New York, Court of Federal Claims No: 17-0337V.

39. Ellen Halm, Atlanta, Georgia, Court of Federal Claims No: 17-0338V.

40. Maurice Goodgame, Birmingham, Alabama, Court of Federal Claims No: 17-0339V.

41. Alicia Debusca, Fairmont, Minnesota, Court of Federal Claims No: 17-0341V.

42. Linda King, Bowling Green, Kentucky, Court of Federal Claims No: 17-0342V.

43. Laura Brodbeck, Wellesley Hills, Massachusetts, Court of Federal Claims No: 17-0344V.

44. Billie K. Damet, Olathe, Kansas, Court of Federal Claims No: 17-0345V.

45. Sheri Hoeger, Folsom, California, Court of Federal Claims No: 17-0346V.

46. Carole Miller, Gibsonia, Pennsylvania, Court of Federal Claims No: 17-0349V.

47. Eva S. Reed, Fridley, Minnesota, Court of Federal Claims No: 17-0352V.

48. Nicole Hooper, Wichita Falls, Texas, Court of Federal Claims No: 17-0355V.

49. Imogene Haynes-Bleau, Roseville, California, Court of Federal Claims No: 17-0356V.

50. Anita Jones, Columbus, Ohio, Court of Federal Claims No: 17-0358V.

51. Tommie Humbert, Jr, Washington, District of Columbia, Court of Federal Claims No: 17-0360V.

52. Sarah D. Murray on behalf of C. E. M., Kennebunk, Maine, Court of Federal Claims No: 17-0361V.

53. Matthew L. Bonk, Georgetown, Texas, Court of Federal Claims No: 17-0364V.

54. Patricia Lopez, Harlingen, Texas, Court of Federal Claims No: 17-0365V.

55. Selina Villafranca on behalf of N. L. V., San Benito, Texas, Court of Federal Claims No: 17-0366V.

56. Leticia Palencia on behalf of C. A. P., Austin, Texas, Court of Federal Claims No: 17-0367V.

57. Loren Lynette Machuca on behalf of J. A. M., Austin, Texas, Court of Federal Claims No: 17-0368V.

58. Sandra Lopez on behalf of T. Y. D., Austin, Texas, Court of Federal Claims No: 17-0369V.

59. Guadalupe Gonzalez, Jr., Austin, Texas, Court of Federal Claims No: 17-0370V.

60. Margarita Gonzalez-Monterrey on behalf of M. N. G., Austin, Texas, Court of Federal Claims No: 17-0371V.

61. Sandra Lopez on behalf of J. D., San Benito, Texas, Court of Federal Claims No: 17-0372V.

62. Joanna Villalobos on behalf of A. D., Harlingen, Texas, Court of Federal Claims No: 17-0373V.

63. Maria Covarrubias on behalf of M. M. M., Harlingen, Texas, Court of Federal Claims No: 17-0374V.

64. Marta Saenz on behalf of R. U. S., Houston, Texas, Court of Federal Claims No: 17-0375V.

65. Larry Pierce, Austin, Texas, Court of Federal Claims No: 17-0376V.

66. Maria Pool on behalf of S. P. P., Harlingen, Texas, Court of Federal Claims No: 17-0377V.

67. Diana C. Villareal, Austin, Texas, Court of Federal Claims No: 17-0378V.

68. Maria D. Sanchez, Brownsville, Texas, Court of Federal Claims No: 17-0379V.

69. Brelda Segura on behalf of J. A. L., Austin, Texas, Court of Federal Claims No: 17-0380V.

70. Armando Fidencio Orta, Austin, Texas, Court of Federal Claims No: 17-0381V.

71. Leticia Palencia on behalf of A. H. P., Harlingen, Texas, Court of Federal Claims No: 17-0382V.

72. Mario A. Flores, Jr., Harlingen, Texas, Court of Federal Claims No: 17-0383V.

73. Dania Pedraza on behalf of N. Q., Brownsville, Texas, Court of Federal Claims No: 17-0384V.

74. Rigoberto Garza, Jr., Brownsville, Texas, Court of Federal Claims No: 17-0385V.

75. Cynthia I. Gomez, Austin, Texas, Court of Federal Claims No: 17-0386V.

76. Veronica Vela on behalf of B. V., Harlingen, Texas, Court of Federal Claims No: 17-0387V.

77. Amadeo Tolento, Jr., Harlingen, Texas, Court of Federal Claims No: 17-0388V.

78. John Lowe, Tempe, Arizona, Court of Federal Claims No: 17-0389V.

79. Theresa Mullis, Boston, Massachusetts, Court of Federal Claims No: 17-0390V.

80. Suzanne Hulett, Boston, Massachusetts, Court of Federal Claims No: 17-0392V.

81. Carolyn Green, Chicago, Illinois, Court of Federal Claims No: 17-0395V.

82. Jeanne Weber, Exton, Pennsylvania, Court of Federal Claims No: 17-0396V.

83. James Baumann, Bethel, Maine, Court of Federal Claims No: 17-0397V.

84. Karen Crawford, Montclair, New Jersey, Court of Federal Claims No: 17-0398V.

85. Joanna Weber, Huntersville, North Carolina, Court of Federal Claims No: 17-0399V.

86. Norma Soltys, Austin, Texas, Court of Federal Claims No: 17-0401V.

87. Todd Boylan on behalf of L. K. B., Wayne, Pennsylvania, Court of Federal Claims No: 17-0402V.

88. Anna Conte, Beckley, West Virginia, Court of Federal Claims No: 17-0403V.

89. Ashley Loftis, Washington, District of Columbia, Court of Federal Claims No: 17-0404V.

90. Alexander Cohen, Millburn, New Jersey, Court of Federal Claims No: 17-0406V.

91. Ronald Wagner, Dubois, Pennsylvania, Court of Federal Claims No: 17-0407V.

92. Dorothy E. Cooper, Greensboro, North Carolina, Court of Federal Claims No: 17-0408V.

93. Myra Brown, Dover, Delaware, Court of Federal Claims No: 17-0409V.

94. Zachary Schneider, Atlanta, Georgia, Court of Federal Claims No: 17-0410V.

95. Rose Johnson, Plymouth, Minnesota, Court of Federal Claims No: 17-0411V.

96. Teresa Tinley, Covington, Georgia, Court of Federal Claims No: 17-0413V.

97. Jacqueline Deberry, Deerfield, Illinois, Court of Federal Claims No: 17-0415V.

98. Britta Lassmann, Boston, Massachusetts, Court of Federal Claims No: 17-0416V.

99. Heewon Kim, Staten Island, New York, Court of Federal Claims No: 17-0418V.

100. Edward Horne, Rincon, Georgia, Court of Federal Claims No: 17-0419V.

101. James Cox, Valley View, Pennsylvania, Court of Federal Claims No: 17-0420V.

102. Krystal Alcott, Orlando, Florida, Court of Federal Claims No: 17-0424V.

103. Brahm Arya, Washington, District of Columbia, Court of Federal Claims No: 17-0425V.

104. Sailaja Peddada, Sacramento, California, Court of Federal Claims No: 17-0426V.

105. Gayle Dillenbeck, Hanover Park, Illinois, Court of Federal Claims No: 17-0428V.

106. Leanne Knapp, Collegeville, Pennsylvania, Court of Federal Claims No: 17-0429V.

107. Dennis Ducheneau, Boston, Massachusetts, Court of Federal Claims No: 17-0431V.

108. Marie Curri, Boston, Massachusetts, Court of Federal Claims No: 17-0432V.

109. Lisa A. Lindman, Fort Bragg, North Carolina, Court of Federal Claims No: 17-0434V.

110. Jeffrey M. Shur, Rochester, New York, Court of Federal Claims No: 17-0435V.

111. Mary Brodie, Athens, Georgia, Court of Federal Claims No: 17-0437V.

112. Kathleen Campbell, San Antonio, Texas, Court of Federal Claims No: 17-0438V.

113. Rosalia Parrea on behalf of M. T., Edinburgh, Texas, Court of Federal Claims No: 17-0440V.

114. Guadalupe Hernandez on behalf of A. C., Harlingen, Texas, Court of Federal Claims No: 17-0442V.

115. Samantha Ledesma on behalf of S. L., Pasadena, Texas, Court of Federal Claims No: 17-0443V.

116. Kerry Leigh and Benjamin Leigh on behalf of E. L., Boston, Massachusetts, Court of Federal Claims No: 17-0444V.

117. Betty Chally, Fayetteville, Georgia, Court of Federal Claims No: 17-0448V.

118. Crystal Moreno on behalf of L. V., Harlingen, Texas, Court of Federal Claims No: 17-0450V.

119. Larry Wolford, Grundy, Virginia, Court of Federal Claims No: 17-0451V.

120. Billy Watson, Birmingham, Alabama, Court of Federal Claims No: 17-0453V.

121. Dustin Mobley, Washington, District of Columbia, Court of Federal Claims No: 17-0454V.

122. Gary Schneider, Dana Point, California, Court of Federal Claims No: 17-0456V.

123. Jackie Mills on behalf of L. M., Portage, Michigan, Court of Federal Claims No: 17-0457V.

124. Joseph Charneco, Boca Raton, Florida, Court of Federal Claims No: 17-0458V.

125. Anita Schmitter, Ann Arbor, Michigan, Court of Federal Claims No: 17-0459V.

126. Mariah Corbett on behalf of N. C., Deceased, Longs, South Carolina Court of Federal Claims No: 17-0460V.

127. Hugh Gose, Seymour, Tennessee, Court of Federal Claims No: 17-0461V.

128. Jane Elise Delzer, Waukesha, Wisconsin, Court of Federal Claims No: 17-0462V.

129. Sharyn Lynn Lobell, Ponchatoula, Louisiana, Court of Federal Claims No: 17-0463V.

130. Sharon Kabelitz, Washington, District of Columbia, Court of Federal Claims No: 17-0466V.

131. Charles Huggins, Watkinsville, Georgia, Court of Federal Claims No: 17-0467V.

132. Barbara Jayne, Washington, District of Columbia, Court of Federal Claims No: 17-0469V.

[FR Doc. 2017-07989 Filed 4-19-17; 8:45 am]

BILLING CODE 4165-15-P